DEPARTMENT OF AGRICULTURE

Forest Service

Information Collection; Pre-Decisional Objection Process for Hazardous Fuel Reduction Projects Authorized by the Healthy Forest Restoration Act of 2003

AGENCY: Forest Service, USDA.

ACTION: Notice; request for comment.

SUMMARY: In accordance with the Paperwork Reduction Act of 1995, the Forest Service is seeking comments from all interested individuals and organizations on the reinstatement of a currently approved information collection, OMB 0596-0172—Pre-Decisional Objection Process for Hazardous Fuel Reduction Projects Authorized by the Healthy Forest Restoration Act of 2003.

DATES: Comments must be received in writing on or before May 4, 2007, to be assured of consideration. Comments received after that date will be considered to the extent practicable.

ADDRESSES: Comments concerning this notice should be addressed to Forest Service, USDA, Assistant Director for Appeals and Litigation, Ecosystem Management Coordination, Mail Stop 1104, 1400 Independence Avenue SW., Washington, DC 20250-1104. Comments also may be submitted via facsimile to (202) 205-1012 or by e-mail to: dbeighley@fs.fed.us.

The public may inspect comments received at the Ecosystem Management Coordination Office, 201 14th St. SW., Washington, DC, during normal business hours. Visitors are encouraged to call ahead to (202) 205-0895 to facilitate entry into the building.

FOR FURTHER INFORMATION CONTACT: Deb Beighley, Ecosystem Management Coordination, at (202) 205-1277 or e-mail to: dbeighley@fs.fed.us. Individuals who use telecommunication devices for the deaf (TDD) may call the Federal Relay Service (FRS) at 1-800-877-8339, 24 hours a day, every day of the year, including holidays.

SUPPLEMENTARY INFORMATION: Title: Pre-Decisional Objection Process for Hazardous Fuel Reduction Projects Authorized by the Healthy Forest Restoration Act of 2003.

OMB Number: 0596-0172.

Expiration Date of Approval: August 31, 2007.

Type of Request: Renewal, without changes, of currently approved collection.

Abstract: The information required by Section 105 of the Healthy Forests Restoration Act of 2003 is the minimum necessary for an individual or organization to object to an authorized hazardous fuel reduction project on Forest Service land. An objector must provide, in writing, their name, mailing address, and phone number (if available); the name of the project for which they are filing an objection, as well as the name and title of the Responsible Official and the Forest Service unit on which the proposed project will be implemented; and the specific changes in the authorized project they seek, as well as the rationale for those changes. The Reviewing Officer must review the objection(s) and relevant information and then respond to the objector(s) in writing. No forms are associated with this information collection.

Estimate of Annual Burden: 8 hours per respondent.

Type of Respondents: Interested and affected individuals, organizations, and governmental units who participate in the planning process for projects on National Forest System lands.

Estimated Annual Number of Respondents: 121.

Estimated Annual Number of Responses per Respondent: 1.

Estimated Total Annual Burden on Respondents: 968 hours.

Comment is Invited

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

Use of Comments

All comments received in response to this notice, including names and addresses when provided, will be a matter of public record. Comments will be summarized and included in the request for Office of Management and Budget approval.

Dated: February 23, 2007.
Gloria Manning,
Associate Deputy Chief, National Forest System.

[FR Doc. E7-3729 Filed 3-2-07; 8:45 am]

BILLING CODE 3410-11-P